DEPARTMENT OF DEFENSE

Office of the Secretary

[Docket ID: DOD-2017-OS-0034]

Submission for OMB Review; Comment Request

AGENCY: Defense Threat Reduction Agency (DTRA), DoD.

ACTION: 30-Day information collection notice.

SUMMARY: The Department of Defense has submitted to OMB for clearance, the following proposal for collection of information under the provisions of the Paperwork Reduction Act.

DATES: Consideration will be given to all comments received by November 27, 2017.

ADDRESSES: Comments and recommendations on the proposed information collection should be emailed to Ms. Jasmeet Seehra, DoD Desk Officer, at Oira_submission@omb.eop.gov. Please identify the proposed information collection by DoD Desk Officer and the Docket ID number and title of the information collection.

FOR FURTHER INFORMATION CONTACT: Fred Licari, 571-372-0493, or whs.mc-alex.esd.mbx.dd-dod-information-collections@mail.mil.

SUPPLEMENTARY INFORMATION:

Title, Associated Form and OMB Number: Nuclear Test Personnel Review Forms; DTRA Form 150, DTRA Form 150A, DTRA Form 150B, and DTRA Form 150C; OMB Control Number 0704-0447.

Type of Request: Reinstatement.

Number of Respondents: 86.

Responses per Respondent: 1.

Annual Responses: 86.

Average Burden per Response: 50 minutes.

Annual Burden Hours: 71.7.

Needs and Uses: The information collection requirement is necessary to collect irradiation scenario information from nuclear test participants to perform their radiation dose assessment. The DTRA radiation dose assessments are provided to the Department of Veterans Affairs in support of veteran radiogenic disease compensation claims. This information may also be used in approved veteran epidemiology studies that study the health impact of nuclear tests on U.S. veterans.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: October 24, 2017.
Aaron Siegel,
Alternate OSD Federal Register Liaison Officer, Department of Defense.

[FR Doc. 2017-23387 Filed 10-26-17; 8:45 am]

BILLING CODE 5001-06-P